Proclamation 10404 of May 27, 2022

Prayer for Peace, Memorial Day, 2022

By the President of the United States of America

A Proclamation

On Memorial Day, we remember the patriots who gave their lives in the service of America, in the service of freedom, and in the service of justice. They made the ultimate sacrifice to defend our Constitution and our democracy. We are free because they were brave, and we live by the light of the flame of liberty they kept burning. They are all heroes, and our Nation is forever grateful.

Those who wear the uniform of the United States Armed Forces know the pride of service and what it means to dedicate themselves to a cause greater than themselves. These women and men put their lives on the line for an idea—the idea of America. They are the best of us. On this day, as we honor the fallen angels who consecrated this great Nation and the ideals that we stand for with their blood, we rededicate ourselves to the unending work of bringing our country ever closer to that more perfect Union for which they died.

Today and every day, we ask God to protect our troops, to shine light perpetual upon the fallen, and to bring comfort to their families. To those who mourn a loved one, and to America's Gold Star Families who have lost a loved one in conflict, my heart aches for you. Our Nation owes you and those you have lost a tremendous debt that we can never fully repay. On Memorial Day, we vow to honor their memories and support the families, caregivers, and survivors they left behind.

As we honor the memories of our fallen heroes, we are grateful for the future they made possible for us and rededicate ourselves to seeking enduring peace. Our heroes gave their lives for our country, and they live forever in our hearts—forever proud, forever honorable, and forever American.

In honor and recognition of all of our fallen service members, the Congress, by a joint resolution approved May 11, 1950, as amended (36 U.S.C. 116), has requested that the President issue a proclamation calling on the people of the United States to observe each Memorial Day as a day of prayer for permanent peace and designating a period on that day when the people of the United States might unite in prayer and reflection. The Congress, by Public Law 106-579, has also designated 3:00 p.m. local time on that day as a time for all Americans to observe, in their own way, the National Moment of Remembrance.

NOW, THEREFORE, I, JOSEPH R. BIDEN JR., President of the United States of America, do hereby proclaim Memorial Day, May 30, 2022, as a day of prayer for permanent peace, and I designate the hour beginning in each locality at 11:00 a.m. of that day as a time when people might unite in prayer and reflection. I urge the press, radio, television, and all other information media to cooperate in this observance. I further ask all Americans to observe the National Moment of Remembrance beginning at 3:00 p.m. local time on Memorial Day.

I request the Governors of the United States and its Commonwealths and Territories, and the appropriate officials of all units of government, to direct that the flag be flown at half-staff until noon on this Memorial Day on all buildings, grounds, and naval vessels throughout the United States and in all areas under its jurisdiction and control. I also request the people of the United States to display the flag at half-staff from their homes for the customary forenoon period.

IN WITNESS WHEREOF, I have hereunto set my hand this twenty-seventh day of May, in the year of our Lord two thousand twenty-two, and of the Independence of the United States of America the two hundred and forty-sixth.

[FR Doc. 2022-11992

Filed 6-1-22; 8:45 am]

Billing code 3395-F2-C